DEPARTMENT OF TRANSPORTATION

Federal Aviation Administration

Termination of Review of Noise Compatibility Program for Fresno Yosemite International Airport, Fresno, CA

AGENCY: Federal Aviation Administration, DOT.

ACTION: Notice.

SUMMARY: The Federal Aviation Administration (FAA) announces it has terminated its review of the noise compatibility program, at the request of the city of Fresno, owner and operator of Fresno Yosemite International Airport, under the provisions of 49 U.S.C. 47501 et. seq. (the Aviation Safety and Noise Abatement Act, hereinafter referred to as “the Act”) and 14 CFR part 150.

DATES: Effective Date: The effective date of the FAA's termination of its review of the Fresno Yosemite International Airport Noise Compatibility Program is September 15, 2006.

FOR FURTHER INFORMATION CONTACT: Camille Garibaldi, Environmental Protection Specialist, San Francisco Airports District Office, Airports Division, Western-Pacific Region, Federal Aviation Administration, 831 Mitten Road, Burlingame, California, 94010. Telephone: 650/876-2778, extension 613.

SUPPLEMENTARY INFORMATION: On July 6, 2005 (70 FR 50437-50438), the FAA determined that the noise exposure maps submitted by the City of Fresno were in compliance with applicable requirements under 14 CFR part 150. Subsequently, the City of Fresno submitted its noise compatibility program for the subject airport to the FAA for formal FAA review that began on May 26, 2006 (71 FR 33032-33033). In a letter received by FAA on September 15, 2006, the City of Fresno requested that FAA suspend its review and processing of the noise compatibility program in order to modify the document. When the FAA has received the revised documentation, FAA will reissue appropriate notice establishing new review and approval periods in accordance with section 150.33(e) of 14 CFR part 150.

Questions may be directed to the individual named above under the heading: FOR FURTHER INFORMATION CONTACT.

Issued in Hawthorne, California on September 15, 2006.
Mark A. McClardy,
Manager, Airports Division, Western-Pacific Region, AWP-600.

[FR Doc. 06-8308 Filed 9-26-06; 8:45 am]

BILLING CODE 4910-13-M